DEPARTMENT OF THE INTERIOR

Fish and Wildlife Service

[FWS-R5-ES-2008-N0312; 50120-1113-0000-D2]

Endangered and Threatened Wildlife and Plants; Initiation of 5-Year Reviews of 7 Listed Species

AGENCY: Fish and Wildlife Service, Interior.

ACTION: Notice of review; request for information.

SUMMARY: We, the U.S. Fish and Wildlife Service, initiate 5-year reviews of the endangered Appalachian monkeyface (Quadrula sparsa), the northeast population of the roseate tern (Sterna dougalii dougalli), and the shale barren rock-cress (Arabis serotina), and the threatened Cheat Mountain salamander (Plethodon nettingi), the Madison cave isopod (Antrolana lira), the sensitive joint-vetch (Aeschynomene virginica), and the Virginia sneezeweed (Helenium virginicum), under the Endangered Species Act of 1973, as amended (Act). We request any new information on these species that may have a bearing on their classification as endangered or threatened. Based on the results of these 5-year reviews, we will make a finding on whether these species are properly classified under the Act.

DATES: To allow us adequate time to conduct these reviews, we are requesting submission of new information by February 17, 2009. However, we will continue to accept new information about any listed species at any time.

ADDRESSES: For instructions on where to submit information and review the information that we receive on these species, see “Public Solicitation of New Information.”

FOR FURTHER INFORMATION CONTACT: Ms. Mary Parkin, U.S. Fish and Wildlife Service, Northeast Region, 300 Westgate Center Drive, Hadley, MA 01035, 413-253-8617 or 617-876-6173, or via e-mail at mary_parkin@fws.gov. Individuals who are hearing impaired or speech impaired may call the Federal Relay Service at 800-877-8337 for TTY assistance. For species-specific information, contact the appropriate person under “Public Solicitation of New Information.”

SUPPLEMENTARY INFORMATION:

Why Do We Conduct a 5-Year Review?

Under the Act we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine: (1) Whether a species no longer meets the definition of threatened or endangered and should be removed from the List (delisted); (2) Whether a species more properly meets the definition of threatened and should be reclassified from endangered to threatened; or (3) Whether a species more properly meets the definition of endangered and should be reclassified from threatened to endangered. Using the best scientific and commercial data available, a species will be considered for delisting if the data substantiate that the species is neither endangered nor threatened for one or more of the following reasons: (1) The species is considered extinct; (2) The species is considered to be recovered; and/or (3) The original data available when the species was listed, or the interpretation of such data, were in error. Any change in Federal classification requires a separate rulemaking process. Therefore, we are requesting submission of any such information that has become available since either the original listing or the most recent status review for these species. Based on the results of these 5-year reviews, we will make the requisite findings under section 4(c)(2)(B) of the Act.

Our regulations at 50 CFR 424.21 require that we publish a notice in the Federal Register announcing those species currently under review. This notice announces initiation of our active review of the species in Table 1.

Table 1—Summary of Listing Information, 4 Wildlife Species and 3 Plant Species in the Northeast Region
Common name | Scientific name | Status | Where listed | Final listing rule
ANIMALS
Appalachian monkeyface | Quadrula sparsa | Endangered | VA | 41 FR 24062; 06/14/1976
Appalachian monkeyface | Quadrula sparsa | Experimental Population, Non-Essential | TN | 72 FR 52433; 09/13/2007
Cheat Mountain salamander | Plethodon nettingi | Threatened | Entire Range | 54 FR 34464; 08/18/1989
Madison cave isopod | Antrolana lira | Threatened | Entire Range | 47 FR 43699; 10/04/1982
Roseate tern | Sterna dougallii dougallii | Endangered | Northeast population (CT, ME, MA, NJ, NY, NC, RI, VA) | 52 FR 42064; 11/02/1987
PLANTS
Sensitive joint-vetch | Aeschynomene virginica | Threatened | Entire Range | 57 FR 21569; 05/20/1992
Shale barren rock-cress | Arabis serotina | Endangered | Entire Range | 54 FR 29655; 07/13/1989
Virginia sneezeweed | Helenium viginicum | Threatened | Entire Range | 63 FR 59239; 11/03/1998

What Information Do We Consider in Our Review?

In our 5-year review, we consider all new information available at the time of the review. These reviews will consider the best scientific and commercial data that have become available since the original listing determination or most recent status review of each species, such as: (A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the wildlife species Appalachian monkeyface, Cheat Mountain salamander, Madison cave isopod, and roseate tern, and of the plant species sensitive joint-vetch, shale barren rock-cress, and Virginia sneezeweed. See “What Information Do We Consider in Our Review?” for specific criteria. Information should be supported with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to, recovery plans and additional actions or studies that would benefit these species in the future.

Our practice is to make information, including names and home addresses of respondents, available for public review. Before including your address, phone number, e-mail address, or other personal identifying information in your comment, you should be aware that your entire comment—including your personal identifying information—may be made publicly available at any time. While you can ask us in your comment to withhold your personal identifying information from public review, we cannot guarantee that we will be able to do so.

You may submit information on the following species by U.S. mail, e-mail, or hand-delivery, to the corresponding addresses below. You may also view information we receive in response to this notice, as well as other public documentations in our files, at the following locations by appointment, during normal business hours.

Appalachian monkeyface: U.S. Fish and Wildlife Service, Southwest Virginia Field Office, 330 Cummings Street, Abingdon, VA 24210, Attention: Shane Hanlon. Direct inquiries to Mr. Hanlon at 276-623-1233, extension 25, or shane_hanlon@fws.gov.

Cheat mountain salamander: U.S. Fish and Wildlife Service, West Virginia Field Office, 694 Beverly Pike, Elkins, WV 26241, Attention: Barbara Douglas. Direct inquiries to Ms. Douglas at 304-636-6586, extension 19, or barbara_douglas@fws.gov.

Madison cave isopod: U.S. Fish and Wildlife Service, Virginia Field Office, 6669 Short Lane, Gloucester, VA 23061, Attention: Sumalee Hoskin. Direct inquiries to Ms. Hoskin at 804-693-6694, extension 136, or sumalee_hoskin@fws.gov.

Roseate tern: U.S. Fish and Wildlife Service, New England Field Office, 70 Commercial Street, Suite 300, Concord, NH 03301, Attention: Michael Amaral. Direct inquiries to Mr. Amaral at 603-223-2541, extension 23, or michael_amaral@fws.gov.

Sensitive joint-vetch: U.S. Fish and Wildlife Service, Virginia Field Office, 6669 Short Lane, Gloucester, VA 23061, Attention: Tylan Dean. Direct inquiries to Mr. Dean at 804-693-6694, extension 104, or tylan_dean@fws.gov.

Shale barren rock-cress: U.S. Fish and Wildlife Service, Virginia Field Office, 6669 Short Lane, Gloucester, VA 23061, Attention: Kimberly Smith. Direct inquiries to Ms. Smith at 804-693-6694, extension 126, or kimberly_smith@fws.gov.

Virginia sneezeweed: U.S. Fish and Wildlife Service, Virginia Field Office, 6669 Short Lane, Gloucester, VA 23061, Attention: Tylan Dean. Direct inquiries to Mr. Dean at 804-693-6694, extension 104, or tylan_dean@fws.gov.

All electronic information must be submitted in text format or rich text format. Include the following identifier in the subject line of the e-mail: Information on 5-year review for [name of species], and include your name and return address in the body of your message.

How Are These Species Currently Listed?

Table 1 provides current listing information. Also, the full List of endangered and threatened species is available on our Internet site at http://endangered.fws.gov/wildlife.html#Species.

Definitions Related to This Notice?

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For each species under review, if we find new information that indicates a change in classification may be warranted, we may propose a new rule that could do one of the following: (a) Reclassify the species from threatened to endangered (uplist); (b) Reclassify the species from endangered to threatened (downlist); or (c) Remove the species from the List (delist). If we determine that a change in classification is not warranted, then the species will remain on the List under its current status.

Authority: This document is published under the authority of the Endangered Species Act of 1973, as amended (16 U.S.C. 1531).

Dated: November 24, 2008.
Wendi Weber,
Acting Regional Director, Northeast Region, Fish and Wildlife Service.

[FR Doc. E8-29720 Filed 12-15-08; 8:45 am]

BILLING CODE 4310-55-P